FEDERAL MARITIME COMMISSION

Sunshine Act Meeting

Agency Holding the Meeting: Federal Maritime Commission.

Time and Date: 10 a.m.—October 23, 2002.

Place: 800 North Capitol Street, NW., First Floor Hearing Room, Washington, DC.

Status: Open.

Matters to Be Considered: 1. Revisions to the Commission's Passenger Vessel Regulations (46 CFR part 540).

Contact Person for More Information: Bryant L. VanBrakle, Secretary, (202) 523-5725.

Bryant L. VanBrakle,
Secretary.

[FR Doc. 02-26723 Filed 10-16-02; 2:09 pm]

BILLING CODE 6730-01-M